ENVIRONMENTAL PROTECTION AGENCY

[EPA-HQ-OECA-2017-0200; FRL-9984-86-OEI]

Information Collection Request Submitted to OMB for Review and Approval; Comment Request; NESHAP for Rubber Tire Manufacturing (Reinstatement)

AGENCY: Environmental Protection Agency (EPA).

ACTION: Notice.

SUMMARY: The Environmental Protection Agency (EPA) has submitted an information collection request (ICR), NESHAP for Rubber Tire Manufacturing (EPA ICR No. 1982.02), to the Office of Management and Budget (OMB) for review and approval in accordance with the Paperwork Reduction Act. Public comments were requested previously, via the Federal Register, on June 29, 2017 during a 60-day comment period. This notice allows for an additional 30 days for public comments. A fuller description of the ICR is given below, including its estimated burden and cost to the public. An agency may neither conduct nor sponsor, and a person is not required to respond to a collection of information unless it displays a currently valid OMB control number.

DATES: Additional comments may be submitted on or before November 30, 2018.

ADDRESSES: Submit your comments, referencing Docket ID Number EPA-HQ-OECA-2017-0200, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP) for Rubber Tire Manufacturing (40 CFR part 63, subpart XXXX) apply to existing and new facilities that are involved in rubber processing, tire production, tire cord production, and puncture sealant application. New facilities include those that commenced construction or reconstruction after the date of proposal. In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance with 40 CFR part 63, subpart XXXX.

Form Numbers: None.

Respondents/affected entities: Rubber tire manufacturers.

Respondent's obligation to respond: Mandatory (40 CFR part 63, subpart XXXX).

Estimated number of respondents: 23 (total).

Frequency of response: Initially, occasionally, semiannually, and annually.

Total estimated burden: 6,520 hours (per year). Burden is defined at 5 CFR 1320.3(b).

Total estimated cost: $910,000 (per year), which includes $0 annualized capital/startup and/or operation & maintenance costs.

Changes in the estimates: This ICR reflects the requirements for on-going compliance (existing facilities) with the rule. The number of sources presented in this ICR reflects current data obtained from industry, including information on the use of compliance alternatives used by the affected facilities. Based on consultations with the trade group, no facilities are using control devices to comply with the requirements.

Courtney Kerwin,
Director, Regulatory Support Division.

[FR Doc. 2018-23754 Filed 10-30-18; 8:45 am]

BILLING CODE 6560-50-P